DEPARTMENT OF THE INTERIOR

Bureau of Land Management

[LLMT924000-L14300000.FR0000; MTM 99415]

Notice of Correction to Notice of Realty Action; Application for Recordable Disclaimer of Interest; Montana

AGENCY: Bureau of Land Management, Interior.

ACTION: Notice of correction.

SUMMARY: The Bureau of Land Management published a Notice of Realty Action application for Recordable Disclaimer of Interest; Montana in the Federal Register on December 23, 2009 (74 FR 68280). The document contained an incorrect acreage figure and proposed action in the SUPPLEMENTARY INFORMATION section.

FOR FURTHER INFORMATION CONTACT: Sandra Ward, 406-896-5052.

SUPPLEMENTARY INFORMATION: In the Federal Register of December 23, 2009, the acreage following the legal description is corrected to read “147.76 acres” and on page 74 FR 68281, in the second paragraph, the words “legislative withdrawal” are corrected to read “disclaimer”.

Cindy Staszak,
Chief, Branch of Land Resources.

[FR Doc. 2010-2851 Filed 2-9-10; 8:45 am]

BILLING CODE 4310-$$-P